DEPARTMENT OF THE TREASURY

Submission for OMB Review; Comment Request

September 19, 2016.

The Department of the Treasury will submit the following information collection requests to the Office of Management and Budget (OMB) for review and clearance in accordance with the Paperwork Reduction Act of 1995, Public Law 104-13, on or after the date of publication of this notice.

DATES: Comments should be received on or before October 24, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Bureau of the Fiscal Service

OMB Control Number: 1530-0013.

Type of Review: Revision of a currently approved collection.

Title: FS Form 2887, Application Form for U.S. Department of the Treasury Stored Value Card (SVC) Program.

Abstract: FS Form 2887 is used to enroll individuals in the Treasury SVC program; to obtain authorization to initiate debit and credit entries to individual's accounts; and to facilitate collection of any delinquent amounts. FS Form 5752 is used to obtain authorization from a cardholder to disclose information considered private under Treasury regulations and the Privacy Act.

Affected Public: Individuals or households.

Estimated Total Annual Burden Hours: 10,001.

OMB Control Number: 1530-0020.

Type of Review: Extension of a currently approved collection.

Title: FS Form 2888, Application Form for U.S. Department of Treasury Accountable Official Stored Value Card (SVC).

Abstract: FS Form 2888 is used to collect information from accountable officials requesting enrollment in the Treasury SVC program in their official capacity, to obtain authorization to initiate debit and credit entries to their bank or credit union accounts to load value on the cards, and to facilitate collection of any delinquent amounts that may become due and owing as a result of the use of the cards.

Affected Public: Individuals or households.

Estimated Total Annual Burden Hours: 1,250.

Brenda Simms,
Treasury PRA Clearance Officer.

[FR Doc. 2016-22876 Filed 9-21-16; 8:45 am]

BILLING CODE 4810-AS-P